DEPARTMENT OF AGRICULTURE

Agricultural Marketing Service

7 CFR Part 1218

[Doc. No. FV-06-0215; FV-03-701]

Blueberry Promotion, Research, and Information Order; Amendment No. 2 to Change the Name of the U.S.A. Cultivated Blueberry Council and Increase Membership; Correction

AGENCY: Agricultural Marketing Service, USDA.

ACTION: Correcting Amendments.

SUMMARY: The Agricultural Marketing Service published in the Federal Register on August 7, 2006, a final rule that changed the title of the U.S.A. Cultivated Blueberry Council (USACBC) to the “U.S. Highbush Blueberry Council” (Council) and added a member and alternate to represent the state of Washington. However, inaccurate amendatory language was used to make the change to the Council's name. In addition, an incorrect acronym used in § 1218.78 prevented its removal and replacement and a heading preceding § 1218.40 in the final rule was published with a repetitive word. This document corrects the error.

DATES: Effective on September 6, 2006.

FOR FURTHER INFORMATION CONTACT: Deborah S. Simmons, Research and Promotion Branch, FV, AMS, USDA, Stop 0244, 1400 Independence Avenue, SW., Room 0635-S, Washington, DC 20250-0244, telephone (202) 720-9915, fax (202) 205-2800, or e-mail deborah.simmons@usda.gov.

SUPPLEMENTARY INFORMATION:

List of Subjects in 7 CFR Part 1218

Administrative practice and procedure, Advertising, Blueberries, Consumer information, Marketing agreements, Blueberry promotion Reporting and recordkeeping requirements.

Accordingly, 7 CFR part 1218 is corrected by making the following correcting amendments:

PART 1218—BLUEBERRY PROMOTION, RESEARCH, AND INFORMATION

Subpart A—Blueberry Promotion, Research, and Information Order

1. The authority citation for part 1218 continues to read as follows:

Authority: 7 U.S.C. 7401-7425.

2. The undesignated center heading preceding § 1218.40 is revised to read as follows:

U.S. HIGHBUSH BLUEBERRY COUNCIL

§§ 1218.42, 1218.43, 1218.44, 1218.45, 1218.46, 1218.47, 1218.48, 1218.50, 1218.51, 1218.52, 1218.53, 1218.54, 1218.55, 1218.56, 1218.60, 1218.62, 1218.70, 1218.73, 1218.75, and 1218.77 [Amended]

3. In §§ 1218.42, 1218.43, 1218.44, 1218.45, 1218.46, 1218.47, 1218.48, 1218.50, 1218.51, 1218.52, 1218.53, 1218.54, 1218.55, 1218.56, 1218.60, 1218.62, 1218.70, 1218.73, 1218.75, and 1218.77, “USACBC” is removed and the word “Council” is added in its place.

§ 1218.78 [Amended]

4. In § 1218.78, “USABC” is removed and the word “Council” is added in its place.

Dated: December 20, 2006.
Lloyd C. Day,
Administrator, Agricultural Marketing Service.

[FR Doc. 06-9862 Filed 12-22-06; 8:45 am]

BILLING CODE 3410-02-P